DEPARTMENT OF ENERGY

Federal Energy Regulatory Commission

[Docket No. RM95-9-014]

Open Access Same-Time Information System and Standards of Conduct

Issued July 26, 2001.

AGENCY: Federal Energy Regulatory Commission.

ACTION: Order Adopting Minor Revisions to OASIS Standards And Communication Protocols Document, Version 1.4 (S&CP Document) and announcement of availability.

SUMMARY: The Federal Energy Regulatory Commission (the Commission) adopts minor technical revisions to the Data Element Dictionary of the S&CP Document. This document is available at (See ADDRESSES Below).

EFFECTIVE DATE: The revisions to the Data Element Dictionary adopted in this order are to become effective on October 1, 2001.

ADDRESSES: Copies of the revisions are available at the Office of the Secretary, Federal Energy Regulatory Commission, 888 First Street, NE., Washington, DC 20426. E-Mail address: “comment.rm@ferc.fed.us”.

FOR FURTHER INFORMATION CONTACT:

Marvin Rosenberg (Technical Information), Office of Markets, Tariffs, and Rates, Federal Energy Regulatory Commission 888, First Street, NE., Washington, DC 20426 (202) 208-1283

Paul Robb (Technical Information), Office of Markets, Tariffs, and Rates, Federal Energy Regulatory Commission, 888 First Street, NE., Washington, DC 20426, (202) 219-2702

Gary D. Cohen (Legal Information), Office of the General Counsel, Federal Energy Regulatory Commission, 888 First Street, NE., Washington, DC 20426, (202) 208-0321.

SUPPLEMENTARY INFORMATION:

Before Commissioners: Curt Hébert, Jr., Chairman; William L. Massey, Linda Breathitt, Pat Wood, III and Nora Mead Brownell.

Order Adopting Minor Revisions to OASIS Standards and Communication Protocols Document, Version 1.4

In this Order, the Commission adopts minor technical revisions to the OASIS Standards and Communication Protocols Document, Version 1.4 (S&CP Document) recommended by the OASIS Standards Collaborative Group (OSC).¹

¹ The OSC states that it formerly was known as the OASIS How Working Group.

Background

On March 23, 2001, OSC submitted a list of recommended revisions to the OASIS Data Dictionary (“Appendix “A”) of the S&CP Document.² OSC states that the revisions merely correct minor errors in the data dictionary.

² A summary of prior revisions to the S&CP Document is found in Open Access Same-Time Information System and Standards of Conduct, FERC Stats. & Regs., Regulations Preambles 1996-2000 ¶ 31,106 at 31,710 (2000).

Notice of the filing was published in the Federal Register,³ with comments due on or before May 18, 2001. The notice stated that the Commission contemplated adopting the recommended revisions after consideration of any comments filed. None was filed.

³ 66 FR 21,135 (2001).

Discussion

The OSC recommends that the Commission make the following revisions to the Data Element Dictionary of the S&CP Document:

• The attributes CAPACITY_SCHEDULED, OLD_DATA, VALUE, and VALUE_UNITS are no longer used and should be deleted from the Data Dictionary.

• The FACILITY_NAME needs to be increased from 25 to 100 characters to accommodate the full length of the PATH_NAME data element and allow for more detailed naming standards in the future.

• The definitions for INITIATING_PARTY and RESPONSIBLE_PARTY should be changed to avoid confusion in interpretation. These elements identify a Control Area, Security Coordinator, etc., by their four character registered codes and do not identify a person.

• OTHER_ CURTAILMENT_PRIORITY should be changed to a designation of “{registered}” to reflect the requirement to register any alternative curtailment priority attributes adopted by the Transmission Provider as called for under Standard 2.4 of the Business Practice Standards for OASIS Transactions Version 1.1.

• The attributes PROCEDURE_NAME and PROCEDURE_LEVEL should be defined either to be the NERC Transmission Loading Relief (TLR) or WSCC Un-Scheduled Flow (USF) transmission security procedures and their corresponding curtailment levels, or names and associated levels registered at tsin.com identifying local transmission security procedures implemented by the Transmission Provider.

• Identify the maximum length of the SECURITY_TYPE element and the restricted values of “OUTAGE” and “LIMIT.”

• Correct the REQUEST_TYPE value for REDIRECT requests.

• The data attribute TRANSACTION_ID needs to be increased from 20 to 30 characters to accommodate the 23 character string length of the NERC Tag ID.

We agree with OSC that each of the recommended revisions to the S&CP Document's Data Element Dictionary should be made. Each of these revisions constitutes a minor technical revision and none is controversial (as shown by the complete absence of comments on the OSC proposal). To avoid confusion, we will refer to the revised Data Element Dictionary we are adopting in this order as Version 1.41.

IV. Effective Date and Congressional Notification

While the revisions to the data dictionary are minor, several of them require transmission providers to modify their computer software. To provide sufficient time for transmission providers to make the modifications, and to insure that the changes are not implemented during the summer peak period, we will make these changes effective on October 1, 2001.

The Commission has determined, with the concurrence of the Administrator of the Office of Information and Regulatory Affairs of the Office of Management and Budget, that this order does not constitute a “major rule” within the meaning of section 351 of the Small Business Regulatory Enforcement Act of 1996. The Commission will submit this order to both houses of Congress and the Comptroller General prior to its publication in the Federal Register.

The Commission orders: The Data Element Dictionary of the S&CP Document is hereby revised, as shown on Attachment A to this order, for use by Transmission Providers, effective on October 1, 2001, as discussed in the body of this order. The revised Data Element Dictionary shall be referred to as Version 1.41.

By the Commission.
David P. Boergers,
Secretary.

[FR Doc. 01-19398 Filed 8-3-01; 8:45 am]

BILLING CODE 6717-01-P